DEPARTMENT OF ENERGY

Federal Energy Regulatory Commission

[Project No. 2376-052]

Eagle Creek Reusens Hydro, LLC; Notice of Application Ready for Environmental Analysis and Soliciting Comments, Recommendations, Terms and Conditions, and Prescriptions

a. Type of Application: New Major License.

b. Project No.: 2376-052.

c. Date Filed: February 28, 2022.

d. Applicant: Eagle Creek Reusens Hydro, LLC (Reusens Hydro).

e. Name of Project: Reusens Hydroelectric Project (Reusens Project or project).

f. Location: The project is located on the James River in Bedford and Amherst Counties, Virginia.

g. Filed Pursuant to: Federal Power Act, 16 U.S.C. 791 (a)-825(r).

h. Applicant Contact: Ms. Joyce Foster, Director, Licensing and Compliance Eagle Creek Renewable Energy, LLC, 7315 Wisconsin Avenue, Suite 1100W, Bethesda, MD 20814; Phone at (804) 338-5110 or email at Joyce.Foster@eaglecreekre.co; and Ms. Jody Smet, Vice President, Regulatory Affairs, Eagle Creek Renewable Energy, LLC, 7315 Wisconsin Ave., Suite 1100W, Bethesda, MD 20814; Phone at (240) 482-2700 or email at jody.smet@eaglecreekre.com.

i. FERC Contact: Laurie Bauer at (202) 502-6519, or laurie.bauer@ferc.gov.

j. Deadline for filing comments, recommendations, terms and conditions, and prescriptions: on or before 5:00 p.m. Eastern Time on July 12, 2025; reply comments are due on or before 5:00 p.m. Eastern Time on August 26, 2025.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Reusens Hydroelectric Project (P-2376-052).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Reusens Project consists of: (1) a 24-foot-high, 416-foot-long concrete dam and spillway containing eight 16.75-foot-high, 44-foot-wide floodgates; (2) a 25-foot-high concrete curved auxiliary spillway; (3) a 500-acre impoundment with a gross storage capacity of 6,869 acre-feet at the normal pool elevation of 550.7 feet National Geodetic Vertical Datum of 1929; (4) an intake section of Powerhouse A containing three 6.83-foot-wide, 17.92-foot-high steel, concrete, and timber gates and Powerhouse B containing two 6.67-foot-wide, 17.5-foot-high timber gates; (5) a 105.5-foot-long, 83-foot-wide, 86-foot-high steel frame, concrete and brick Powerhouse A containing three vertical Francis turbine-generator units with a total installed capacity of 7.5 megawatts (MW); (5) a 55-foot-long, 27-foot-wide, 84-foot-high steel frame, concrete and brick Powerhouse B containing two vertical Francis turbine-generator units with a total installed capacity of 5 MW; (6) a 100-foot-wide, 250-foot-long tailrace below Powerhouse A; (7) a 60-foot-wide, 50-foot-long tailrace below Powerhouse B; (8) a 280-foot-long transmission line to three 5,210 kilovolt-ampere 4/34.5 kilovolt step-up transformers which are connected to the grid via a 24-foot-long overhead line; and (9) appurtenant facilities.

The Reusens Project operates in a peaking mode with an average annual generation of 22,504 megawatt-hours between 2018 and 2021.

m. A copy of the application can be viewed on the Commission's website at http://www.ferc.gov using the “eLibrary” link. Enter the docket number excluding the last three digits in the docket number field to access the document. For assistance, contact FERC Online Support.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

n. The applicant must file no later than 60 days following the date of issuance of this notice: (1) a copy of the water quality certification; (2) a copy of the request for certification, including proof of the date on which the certifying agency received the request; or (3) evidence of waiver of water quality certification.

o. Procedural Schedule: The application will be processed according to the following schedule. Revisions to the schedule will be made as appropriate.

Milestone | Target date
Filing of Comments, Recommendations, Terms and Conditions, and Prescriptions | July 12, 2025.
Filing of Reply Comments | August 26, 2025.

p. Final amendments to the application must be filed with the Commission no later than 30 days from the issuance date of this notice.

Dated: May 13, 2025.
Debbie-Anne A. Reese,
Secretary.

[FR Doc. 2025-09196 Filed 5-21-25; 8:45 am]

BILLING CODE 6717-01-P